DEPARTMENT OF TRANSPORTATION

Federal Transit Administration

Notice of Funding Opportunity (NOFO); Solicitation of Project Proposals for the Passenger Ferry Grant Program

AGENCY: Federal Transit Administration (FTA), DOT.

ACTION: Notice.

SUMMARY: The Federal Transit Administration (FTA) announces the opportunity to apply for $30 million in Fiscal Year (FY) 2019 Section 5307 Urbanized Area Formula Program funds (Catalog of Federal Domestic Assistance #20.507) authorized for competitively selected passenger ferry projects. As required by Federal public transportation law and subject to appropriations, funds will be awarded competitively to designated recipients or eligible direct recipients of Section 5307 funds to assist in the financing of capital projects to support existing passenger ferry service, establish new ferry service, and to repair and modernize ferry boats, terminals, and related facilities and equipment. FTA may award additional funding made available to the program prior to the announcement of project selections.

DATES: Complete proposals must be submitted electronically through the GRANTS.GOV “APPLY” function by 11:59 p.m. EST April 15, 2019. Prospective applicants should initiate the process by promptly registering on the GRANTS.GOV website to ensure completion of the application process before the submission deadline. Instructions for applying can be found on FTA's website at http://transit.dot.gov/howtoapply and in the “FIND” module of GRANTS.GOV. The funding opportunity ID is FTA-2019-002-TPM-PF. Mail and fax submissions will not be accepted.

FOR FURTHER INFORMATION CONTACT: Vanessa Williams, FTA Office of Program Management, (202) 366-4818, or vanessa.williams@dot.gov.

SUPPLEMENTARY INFORMATION:

Table of Contents

A. Program Description

B. Federal Award Information

C. Eligibility Information

D. Application and Submission Information

E. Application Review

F. Review and Selection Process

G. Federal Award Administration

H. Federal Awarding Agency Contact(s)

I. Technical Assistance and Other Program Information

A. Program Description

Section 5307(h) of Title 49, United States Code, as amended by the Fixing America's Surface Transportation (FAST Act) (Pub. L. 114-94, Dec. 4, 2015), authorizes FTA to award funds through a competitive process, as described in this notice, for capital projects to improve the condition and quality of existing passenger ferry services, support the establishment of new passenger ferry services, and to repair and modernize ferry boats, terminals, and related facilities and equipment. FTA recognizes that passenger ferries provide critical and cost-effective transportation links in urban areas throughout the United States, but face a critical backlog of state of good repair and safety investments.

B. Federal Award Information

Federal public transportation law and subject to appropriations authorizes $30 million in FY 2019 for passenger ferry grants under 49 U.S.C. 5307(h) (Ferry program). FTA may supplement the total available with future appropriations. FTA will grant pre-award authority to incur costs for selected projects beginning on the date that project selections are announced. Funds are only available for projects that have not already incurred costs and will be available for obligation until September 30, 2024. In FY 2017, the program received 22 eligible project proposals totaling approximately $65.4 million from 12 states. Under this competition, FTA awarded funds to twenty projects for a total of $58.2 million, using a combination of FY 2017 and FY 2018 funding.

C. Eligibility Information

1. Eligible Applicants

Eligible applicants under this program include: Designated recipients and direct recipients (as defined in FTA Circular 9030), as well as public entities engaged in providing public transportation passenger ferry service in urban areas that are eligible to be direct recipients. If the recipient is eligible to receive 5307 funds, but does not currently have an active grant with FTA, upon selection, the recipient will be required to work with the FTA regional office to establish its organization as an active grantee. This process may require additional documentation to support the organization's technical, financial, and legal capacity to receive and administer Federal funds under this program.

2. Cost Sharing or Matching

The maximum Federal share for projects selected under the Passenger Ferry program is 80 percent of the net project cost, unless noted below by one of the exceptions.

i. The maximum Federal share is 85 percent of the net project cost of acquiring vehicles (including clean-fuel or alternative fuel vehicles) that are compliant with the Clean Air Act (CAA) and/or the Americans with Disabilities Act (ADA) of 1990.

ii. The maximum Federal share is 90 percent of the net project cost of acquiring, installing or constructing vehicle-related equipment or facilities (including clean fuel or alternative-fuel vehicle-related equipment or facilities) that are required by the ADA of 1990, or that are necessary to comply with or maintaining compliance with the Clean Air Act. The award recipient must itemize the cost of specific, discrete, vehicle-related equipment associated with compliance with ADA or CAA to be eligible for the maximum 90 percent Federal share for these costs.

Eligible sources of local match include:

i. Cash from non-governmental sources other than revenues from providing public transportation services;

ii. Non-farebox revenues from the operation of public transportation service, such as the sale of advertising and concession revenues;

iii. Monies received under a service agreement with a State or local social service agency or private social service organization;

iv. Undistributed cash surpluses, replacement or depreciation cash funds, reserves available in cash, or new capital;

v. Amounts appropriated or otherwise made available to a department or agency of the Government (other than the U.S. Department of Transportation), that are eligible to be expended for public transportation;

vi. In-kind contribution such as the market value of in-kind contributions integral to the project may be counted as a contribution toward local share;

vii. Revenue bond proceeds for a capital project, with prior FTA approval; and

viii. Transportation Development Credits (TDC) (formerly referred to as Toll Revenue Credits).

If an applicant proposes a Federal share greater than 80 percent, the application must clearly explain why the project is eligible for the proposed Federal share. Note: Please refer to FTA Circular 9030 for more information regarding the use of TDCs. FTA will not retroactively approve TDCs as match if they are not included in the proposal submitted under this competition.

3. Eligible Projects

Eligible projects are capital projects for the purchase, replacement, or rehabilitation of ferries, terminals, related infrastructure, related equipment (including fare equipment and communication devices) and expansion. Projects are required to support a passenger ferry service that operates within an urbanized area, as defined under Federal public transportation law, but may include services that operate between an urbanized area and non-urbanized areas. Ferry systems that accommodate cars must also accommodate walk-on passengers in order to be eligible for funding.

Recipients are permitted to use up to 0.5 percent of their requested grant award for workforce development activities eligible under 49 U.S.C 5314(b) and an additional 0.5 percent for costs associated with training at the National Transit Institute. Applicants must identify the proposed use of funds for these activities in the project proposal and identify them separately in the project budget.

D. Application and Submission Information

1. Address

Applications must be submitted electronically through GRANTS.GOV. General information for submitting applications through GRANTS.GOV can be found at www.fta.dot.gov/howtoapply along with specific instructions for the forms and attachments required for submission. Mail and fax submissions will not be accepted. A complete proposal submission consists of two forms: The SF424 Application for Federal Assistance (downloaded from GRANTS.GOV) and the supplemental form for the FY 2019 Passenger Ferry Grant Program (downloaded from GRANTS.GOV or the FTA website at: https://www.transit.dot.gov/funding/grants/passenger-ferry-grant-program-section-5307). Applicants may also attach additional supporting information. Failure to submit the information as requested can delay or prevent review of the application.

2. Content and Form of Application Submission

i. Proposal Submission

A complete proposal submission consists of two forms: The SF424 Mandatory Application for Federal Assistance and the FY 2019 Passenger Ferry Grant Program supplemental form. The supplemental form and any supporting documents must be attached to the “Attachments” section of the SF424. A complete application must include responses to all sections of the SF424 Application for Federal Assistance and the supplemental form, unless indicated as optional. The information on the supplemental form will be used to determine applicant and project eligibility for the program, and to evaluate the proposal against the selection criteria described in part E of this notice.

FTA will only accept one supplemental form per SF424 submission. FTA encourages States and other applicants to consider submitting a single supplemental form that includes multiple activities to be evaluated as a consolidated proposal. If a State or other applicant chooses to submit separate proposals for individual consideration by FTA, each proposal must be submitted using a separate SF424 and supplemental form.

Applicants may attach additional supporting information to the SF424 submission, including but not limited to letters of support, project budgets, fleet status reports, or excerpts from relevant planning documents. Supporting documentation must be described and referenced by file name in the appropriate response section of the supplemental form, or it may not be reviewed.

Information such as applicants name, Federal amount requested, local match amount, description of areas served, etc. may be requested in varying degrees of detail on both the SF424 form and Supplemental Form. Applicants must fill in all fields unless stated otherwise on the forms. Applicants should not place N/A or “refer to attachment” in lieu of typing in responses in the field sections. If information is copied into the supplemental form from another source, applicants should verify that pasted text is fully captured on the supplemental form and has not been truncated by the character limits built into the form. Applicants should use both the “Check Package for Errors” and the “Validate Form” validation buttons on both forms to check all required fields on the forms, and ensure that the Federal and local amounts specified are consistent.

ii. Application Content

The SF424 Mandatory Form and the Supplemental Form will prompt applicants for the required information, including:

a. Applicant Name

b. Dun and Bradstreet (D&B) Data Universal Numbering System (DUNS) number

c. Key contact information (including contact name, address, email address, and phone)

d. Congressional district(s) where project will take place

e. Project Information (including title, an executive summary, and type)

f. A detailed description of the need for the project

g. A detailed description on how the project will support the Ferry program objectives

h. Evidence that the project is consistent with local and regional planning objectives

i. Evidence that the applicant can provide the local cost share

j. A description of the technical, legal, and financial capacity of the applicant

k. A detailed project budget

l. An explanation of the scalability of the project

m. Details on the local matching funds

n. A detailed project timeline

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant: (1) Is an individual; (2) is excepted from the requirements under 2 CFR 25.110(b) or (c); or (3) has an exception approved by FTA under 2 CFR 25.110(d). FTA may not make an award until the applicant has complied with all applicable unique entity identifier and SAM requirements. If an applicant has not fully complied with the requirements by the time FTA is ready to make an award, FTA may determine that the applicant is not qualified to receive an award and use that determination as a basis for making a Federal award to another applicant. SAM registration takes approximately 3-5 business days, but FTA recommends allowing ample time, up to several weeks, for completion of all steps. For additional information on obtaining a unique entity identifier, please visit www.sam.gov.

4. Submission Dates and Times

Project proposals must be submitted electronically through GRANTS.GOV by 11:59 p.m. EST on April 15, 2019. Mail and fax submissions will not be accepted.

FTA urges applicants to submit applications at least 72 hours prior to the due date to allow time to correct any problems that may have caused either GRANTS.GOV or FTA systems to reject the submission. Proposals submitted after the deadline will only be considered under extraordinary circumstances not under the applicant's control. Deadlines will not be extended due to scheduled website maintenance. GRANTS.GOV scheduled maintenance and outage times are announced on the GRANTS.GOV website.

Within 48 hours after submitting an electronic application, the applicant should receive two email messages from GRANTS.GOV: (1) Confirmation of successful transmission to GRANTS.GOV and (2) confirmation of successful validation by GRANTS.GOV. If confirmations of successful validation are not received or a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) Registration in SAM is renewed annually; and, (2) persons making submissions on behalf of the Authorized Organization Representative (AOR) must be authorized in GRANTS.GOV by the AOR to make submissions.

5. Funding Restrictions

Funds made available under the Ferry program may not be used to fund operating expenses, planning, or preventive maintenance.

6. Other Submission Requirements

Applicants are encouraged to identify scaled funding options in case insufficient funding is available to fund a project at the full requested amount. If an applicant indicates that a project is scalable, the applicant must provide an appropriate minimum funding amount that will fund an eligible project that achieves the objectives of the program and meets all relevant program requirements. The applicant must provide a clear explanation of how the project budget would be affected by a reduced award. FTA may award a lesser amount whether or not a scalable option is provided.

E. Application Review

Projects will be evaluated primarily on the responses provided in the supplemental form. Additional information may be provided to support the responses; however, any additional documentation must be directly referenced on the supplemental form, including the file name where the additional information can be found. FTA will evaluate project proposals for competitive passenger ferry grants based on the criteria described in this notice.

1. Demonstration of Need

Applications will be evaluated based on the quality and extent to which they demonstrate how the proposed project will address an unmet need for capital investment in passenger ferry vehicles, equipment, and/or facilities. FTA will also evaluate the project's impact on service delivery and whether the project represents a one-time or periodic need that cannot reasonably be funded from FTA formula program allocations or State and/or local resources. In evaluating applications, FTA will consider, among other factors, certain project-specific criteria as outlined below:

i. For vessel replacement or rehabilitation projects:

• The age of the asset to be replaced or rehabilitated by the proposed project, relative to its useful life.

• Condition and performance of the asset to be replaced by the proposed project, as ascertained through inspections or otherwise, if available.

ii. For infrastructure (facility) improvements or related-equipment acquisitions:

• The age of the facility or equipment to be rehabilitated or replaced relative to its useful life.

• The degree to which the proposed project will enable the agency to improve the maintenance and condition of the agency's fleet and/or other related ferry assets.

iii. For expansion or new service requests (vessel or facility-related):

• The degree to which the proposed project addresses a current capacity constraint that is limiting the ability of the agency to provide reliable service, meet ridership demands, or maintain vessels and related equipment.

• The degree the proposed new service is supported by ridership demand.

iv. Additional consideration will be given to projects in which the beneficiary of the award contributes a greater share of the total project costs.

2. Demonstration of Benefits

Applications will be evaluated based on how the ferry project will improve the safety and state of good repair of the system or provide additional transportation options to potential riders within the service area. FTA will consider potential benefits such as increased reliability of service, improved operations or maintenance capabilities, or expanded mobility options, intermodal connections, and economic benefits to the community. Applicants should address how the ferry service to be supported by the proposed project is integrated with other regional modes of transportation, including but not limited to: Rail, bus, intercity bus, and private transportation providers. Supporting documentation should include data that demonstrates the number of trips (passengers and vehicles), the number of walk-on passengers, and the frequency of transfers to other modes (if applicable).

3. Planning and Local/Regional Prioritization

Applicants must demonstrate how the proposed project is consistent with local and regional planning documents and identified priorities. This will involve assessing whether the project is consistent with the transit priorities identified in the long-range transportation plan and/or the State and Metropolitan Transportation Improvement Program (STIP/TIP). Applicants should note if the project could not be included in the financially constrained STIP or TIP due to lack of funding; however, if selected, the project must be in the federally approved STIP before grant award.

FTA encourages applicants to demonstrate local support by including letters of support from State Departments of Transportation, local transit agencies, and other relevant stakeholders. In an area with both ferry and other public transit operators, FTA will evaluate whether project proposals demonstrate coordination with and support of other related projects within the applicant's Metropolitan Planning Organization (MPO) or the geographic region within which the proposed project will operate.

4. Local Financial Commitment:

Applicants must identify the source of the local cost share and describe whether such funds are currently available for the project or will need to be secured if the project is selected for funding. FTA will consider the availability of the local cost share as evidence of local financial commitment to the project. Additional consideration will be given to those projects for which local funds have already been made available or reserved. Applicants should submit evidence of the availability of funds for the project, for example by including a board resolution, letter of support from the State, or other documentation of the source of local funds such as a budget document highlighting the line item or section committing funds to the proposed project. Applicants that request a Federal share greater than 80 percent must clearly explain why the project is eligible for the proposed Federal share.

5. Project Implementation Strategy

Projects will be evaluated based on the extent to which the project is ready to implement within a reasonable period of time and whether the applicant's proposed implementation plans are reasonable and complete.

In assessing whether the project is ready to implement within a reasonable period of time, FTA will consider whether the project qualifies for a Categorical Exclusion (CE), or whether the required environmental work has been initiated or completed for projects that require an Environmental Assessment (EA) or Environmental Impact Statement (EIS) under the National Environmental Policy Act of 1969 (NEPA), as amended. The proposal must also state whether grant funds can be obligated within 12 months from time of award, if selected, and indicate the timeframe under which the Metropolitan Transportation Improvement Program (TIP) and/or Statewide Transportation Improvement Program (STIP) can be amended to include the proposed project. Additional consideration will be given to projects for which grant funds can be obligated within 12 months from time of award.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

6.Technical, Legal, and Financial Capacity

Applicants must demonstrate that they have the technical, legal, and financial capacity to undertake the project. FTA will review relevant oversight assessments and records to determine whether there are any outstanding legal, technical, or financial issues with the applicant that would affect the outcome of the proposed project. Applicants with outstanding legal, technical, or financial compliance issues from a FTA compliance review or FTA grant-related Single Audit finding must explain how corrective actions taken will mitigate negative impacts on the project.

F. Review and Selection Process

In addition to other FTA staff that may review the proposals, a technical evaluation committee will evaluate proposals based on the published evaluation criteria. After applying the above preferences, the FTA Administrator will consider the following key Departmental objectives:

• Using innovative approaches to improve safety and expedite project delivery;

• Supporting economic vitality at the national and regional level;

• Utilizing alternative funding sources and innovative financing models to attract non-Federal sources of infrastructure investment;

• Accounting for the life-cycle costs of the project to promote the state of good repair; and

• Holding grant recipients accountable for their performance and achieving specific, measurable outcomes identified by grant applicants.

Prior to making an award, FTA is required to review and consider any information about the applicant that is in the Federal Awardee Performance and Integrity Information Systems (FAPIIS) accessible through SAM. An applicant may review and comment on information about itself that a Federal awarding agency previously entered.

The FTA Administrator will determine the final selection of projects for program funding. FTA may consider geographic diversity, diversity in the size of the transit systems receiving funding, and/or the applicant's receipt of other competitive awards in determining the allocation of program funds. In addition, FTA may consider capping the amount a single applicant may receive. Projects that have a higher local match commitment may also be prioritized.

G. Federal Award Administration

1. Federal Award Notices

Final project selections will be posted on the FTA website. Project recipients should contact their FTA Regional Offices for additional information regarding allocations for projects under the Ferry program.

2. Award Administration

Funds under the Ferry program are available to designated recipients or eligible direct recipients of Section 5307 funds. There is no minimum or maximum grant award amount; however, FTA intends to fund as many meritorious projects as possible. Only proposals from eligible recipients for eligible activities will be considered for funding. Due to funding limitations, projects that are selected for funding may receive less than the amount originally requested. In those cases, applicants must be able to demonstrate that the proposed projects are still viable and can be completed with the amount awarded.

3. Administrative and National Policy Requirements

i. Pre-Award Authority

FTA will issue specific guidance to recipients regarding pre-award authority at the time of selection. FTA does not provide pre-award authority for competitive funds until projects are selected and even then, there are Federal requirements that must be met before costs are incurred. For more information about FTA's policy on pre-award authority, please see the FY 2018 Apportionment Notice published on July 16, 2018 that can be accessed at https://www.gpo.gov/fdsys/pkg/FR-2018-07-16/pdf/2018-14989.pdf.

ii. Grant Requirements

If selected, awardees will apply for a grant through FTA's Transit Award Management System (TrAMS). All Ferry recipients are subject to the grant requirements of Section 5307 Urbanized Area Formula Grant program, including those of FTA Circular 9030. All recipients must follow the Award Management Requirements Circular 5010.1E, and the labor protections of 49 U.S.C. 5333(b). All competitive grants, regardless of award amount, will be subject to the congressional notification and release process. Technical assistance regarding these requirements is available from each FTA regional office.

iii. Buy America

FTA requires that all capital procurements meet FTA's Buy America requirements that require all iron, steel, or manufactured products be produced in the United States, to help create and protect manufacturing jobs in the United States. The Ferry program will have a significant economic impact toward meeting the objectives of the Buy America law. The FAST Act amended the Buy America requirements, 49 U.S.C. 5323(j), to provide for a phased increase in the domestic content for rolling stock. For FY 2019, the cost of components and subcomponents produced in the United States must be more than 65 percent of the cost of all components. For FY 2020 and beyond, the cost of components and subcomponents produced in the United States must be more than 70 percent of the cost of all components. There is no change to the requirement that final assembly of rolling stock must occur in the United States. The Buy America requirements can be found in 49 CFR part 661 and additional guidance on the implementation of the phased increase in domestic content can be found at 81 FR 60278 (Sept. 1, 2016). Any proposal that will require a waiver must identify the items for which a waiver will be sought in the application. Applicants should not proceed with the expectation that waivers will be granted.

iv. Disadvantaged Business Enterprise

Projects that include ferry acquisitions are subject to the Disadvantaged Business Enterprise (DBE) program regulations at 49 CFR part 26 and ferry manufacturers must be certified Transit Vehicle Manufacturers (TVMs) to be eligible to bid on an FTA-assisted ferry procurement. The rule requires that, prior to bidding on any FTA-assisted vehicle procurement, entities that manufacture ferries must submit a DBE Program plan and annual goal methodology to FTA. The FTA will then issue a TVM concurrence/certification letter. Grant recipients must verify each entity's compliance before accepting its bid. A list of certified TVMs is posted on FTA's web page at http://www.fta.dot.gov/civilrights/12891.html. Recipients should contact FTA before accepting bids from entities not listed on this web-posting. In lieu of using a certified TVM, recipients may also establish project specific DBE goals for ferry purchases. The FTA will provide additional guidance as grants are awarded. For more information on DBE requirements, please contact Janelle Hinton, Office of Civil Rights, 202-366-9259, email: janelle.hinton@dot.gov.

v. Planning

FTA encourages applicants to notify the appropriate State Departments of Transportation and MPOs in areas likely to be served by the project funds made available under these initiatives and programs. Selected projects must be incorporated into the long-range plans and transportation improvement programs of States and metropolitan areas before they are eligible for FTA funding.

vi. Standard Assurances

The applicant assures that it will comply with all applicable Federal statutes, regulations, executive orders, directives, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

4. Reporting

Post-award reporting requirements include the electronic submission of Federal Financial Reports and Milestone Progress Reports.

G. Federal Awarding Agency Contact(s)

For further information concerning this notice, please contact the Ferry program manager, Vanessa Williams, by phone at 202-366-4818, or by email at vanessa.williams@dot.gov. A TDD is available for individuals who are deaf or hard of hearing at 800-877-8339. In addition, FTA will post answers to questions and requests for clarifications on FTA's website at: https://www.transit.dot.gov/funding/grants/passenger-ferry-grant-program-section-5307. To ensure receipt of accurate information about eligibility or the program, the applicant is encouraged to contact FTA directly, rather than through intermediaries or third parties.

H. Technical Assistance and Other Program Information

This program is not subject to Executive Order 12372, “Intergovernmental Review of Federal Programs.” FTA will consider applications for funding only from eligible recipients for eligible projects listed in Section C. Complete applications must be submitted through GRANTS.GOV by 11:59 p.m. EST on April 15, 2019. For issues with GRANTS.GOV, please contact GRANTS.GOV by phone at 1-800-518-4726 or by email at support@grants.gov.

Contact information for FTA's regional offices can be found on FTA's website at www.fta.dot.gov.

Issued in Washington, DC.
K. Jane Williams,
Acting Administrator.

[FR Doc. 2019-01951 Filed 2-11-19; 8:45 am]

BILLING CODE P